Proclamation 10700 of January 31, 2024

National Teen Dating Violence Awareness and Prevention Month, 2024

By the President of the United States of America

A Proclamation

During National Teen Dating Violence Awareness and Prevention Month, we recommit to building a future where our Nation's young people can live free from violence, fear, and abuse.

About 1 in 12 high school students in the United States have experienced physical or sexual dating violence. Violence, intimidation, and fear—whether perpetrated in person or online—can upend the lives of young people during some of their most formative years and have lifelong consequences. Survivors of teen dating violence are more likely to suffer from symptoms of depression, anxiety, and trauma. Experiencing an unhealthy or abusive relationship as a teen can increase a young person's risk of facing violence in intimate relationships throughout their lives.

Throughout my career, I have fought against abuses of power. As a United States Senator, I wrote and championed the groundbreaking Violence Against Women Act that became law in 1994. Preventing and responding to gender-based violence wherever it occurs and in all of its forms is a cause I care about deeply, and it has remained a cornerstone of my career in public service.

That is why, last year, my Administration released the first-ever National Plan to End Gender-Based Violence, which includes resources to prevent teen dating violence, promote healthier relationships, and equip survivors with the resources and care they deserve. In addition, the White House Task Force to Address Online Harassment and Abuse is working to help teens stay safe online and prevent the misuse of technology as tools of abuse, harassment, and exploitation. In 2022, I was proud to sign the reauthorization of the Violence Against Women Act, which increased investment in programs working to reduce teen dating violence.

The Centers for Disease Control and Prevention is providing tools and training for educators, families, and community members to teach young people how to form healthy relationships and safely leave abusive ones. Learn more at VetoViolence.CDC.gov. If you or someone you know is involved in an abusive relationship of any kind, immediate and confidential support is available through the National Domestic Violence Hotline's project focused on supporting young people by visiting loveisrespect.org, calling 1-866-331-9474 (TTY: 1-800-787-3224), or texting “LOVEIS” to 22522.

This month, may we come together to end teen dating violence and ensure our teens feel safe, protected, and empowered to live lives free from violence and full of dignity and respect.

NOW, THEREFORE, I, JOSEPH R. BIDEN JR., President of the United States of America, by virtue of the authority vested in me by the Constitution and the laws of the United States, do hereby proclaim February 2024 as National Teen Dating Violence Awareness and Prevention Month. I call upon everyone to educate themselves and others about teen dating violence so that together we can stop it.

IN WITNESS WHEREOF, I have hereunto set my hand this thirty-first day of January, in the year of our Lord two thousand twenty-four, and of the Independence of the United States of America the two hundred and forty-eighth.

[FR Doc. 2024-02349

Filed 2-2-24; 8:45 am]

Billing code 3395-F4-P